INTERNATIONAL TRADE COMMISSION

[Investigation No. 731-TA-1070A (Review)]

Crepe Paper Products From China Determination

On the basis of the record ¹ developed in the subject five-year review, the United States International Trade Commission (Commission) determines, pursuant to section 751(c) of the Tariff Act of 1930 (19 U.S.C. 1675(c)), that revocation of the antidumping duty order on crepe paper from China would be likely to lead to continuation or recurrence of material injury to an industry in the United States within a reasonably foreseeable time.

¹ The record is defined in sec. 207.2(f) of the Commission's Rules of Practice and Procedure (19 CFR 207.2(f)).

Background

The Commission instituted this review on December 1, 2009 (74 FR 62815) and determined on March 8, 2010 that it would conduct an expedited review (75 FR 13779, March 23, 2010).

The Commission transmitted its determination in this review to the Secretary of Commerce on April 30, 2010. The views of the Commission are contained in USITC Publication 4148 (April 2010), entitled Crepe Paper Products from China: Investigation No. 731-TA-1070A (Review).

By order of the Commission.
Issued: May 3, 2010.
Marilyn R. Abbott,
Secretary.

[FR Doc. 2010-10691 Filed 5-5-10; 8:45 am]

BILLING CODE 7020-02-P